DEPARTMENT OF TRANSPORTATION

Coast Guard

33 CFR Part 117

[CGD11-01-014]

RIN 2115—AE47

Drawbridge Operation Regulations; Napa River, California

AGENCY: Coast Guard, DOT.

ACTION: Notice of temporary deviation from regulations.

SUMMARY: The Commander, Eleventh Coast Guard District has approved a temporary deviation to the regulations governing the opening of the Mare Island Causeway drawbridge at mile 2.8 over the Napa River, Solano County, California. The drawbridge need not open for vessel traffic between the hours of 6 a.m. and 6 p.m., September 10 through September 14, 2001. This deviation is to allow the U.S. Navy to perform essential mechanical repairs on the bridge.

DATES: The temporary deviation is effective from 6 a.m., September 10, 2001, through 6 p.m., September 14, 2001.

FOR FURTHER INFORMATION CONTACT: David H. Sulouff, Chief, Bridge Section; Eleventh Coast Guard District, Bldg. 50-6, Coast Guard Island, Alameda, CA 94501-5100, telephone (510) 437-3516.

SUPPLEMENTARY INFORMATION: The Mare Island Causeway drawbridge, mile 2.8, over the Napa River, Solano County, California provides 6 feet vertical clearance above Mean High Water when closed. On August 6, 2001, the Coast Guard received a request from the U.S. Navy for the temporary deviation from the existing operating regulation in 33 CFR 117.5, which requires drawbridges to open promptly and fully when a request to open is given. This deviation has been coordinated with commercial operators and various marinas on the waterway. No objections were received. Vessels that can pass under the bridge without an opening may do so at all times. In accordance with 33 CFR 117.35(c), this work shall be performed with all due speed in order to return the bridge to normal operation as soon as possible. This deviation from the normal operating regulations in 33 CFR 117.5 is authorized in accordance with the provisions of 33 CFR 117.35.

Dated: August 29, 2001.
E.R. Riutta,
Vice Admiral, U.S. Coast Guard, Commander, Eleventh Coast Guard District.

[FR Doc. 01-22780 Filed 9-10-01; 8:45 am]

BILLING CODE 4910-15-U